DEPARTMENT OF HOMELAND SECURITY

Coast Guard

[USCG-2013-0804]

Great Lakes Pilotage Advisory Committee

AGENCY: Coast Guard, DHS.

ACTION: Committee management; notice of Federal Advisory Committee meeting.

SUMMARY: The Great Lakes Pilotage Advisory Committee (GLPAC) will meet on September 19, 2013, in Washington, DC to discuss and suggest improvements to the Great Lakes Pilotage regulations. The meeting will be open to the public.

DATES: GLPAC will meet on Thursday, September 19, 2013, from 10:00 a.m. to 4:00 p.m. Please note the meeting may close early if the committee completes its business. Written material and requests to make oral presentations should reach us on or before September 17, 2013.

ADDRESSES: This meeting will be held at U.S. Coast Guard Headquarters located at 2703 Martin Luther King Jr. Avenue SE., Washington, DC 20593 in conference room 6i10-01-a. All visitors to Coast Guard Headquarters will have to pre-register to be admitted to the building. Please provide your name, telephone number and organization by close of business on September 17, 2013, to the contact person listed in FOR FURTHER INFORMATION CONTACT below. Additionally, all visitors to Coast Guard Headquarters must provide identification in the form of government-issued picture identification card for access to the facility. Please allow at least 30 minutes before the planned start of the meeting in order to pass through security.

For information on facilities or services for individuals with disabilities or to request special assistance at the meeting, contact the person listed in FOR FURTHER INFORMATION CONTACT below as soon as possible.

To facilitate public participation, we are inviting public comment on the issues to be considered by the committee as listed in the “Agenda” section below. Comments must be submitted in writing no later than September 17, 2013, and must be identified by [USCG-2013-0804] and may be submitted by one of the following methods:

• Federal eRulemaking Portal: http://www.regulations.gov. Follow the instructions for submitting comments.

• Fax: 202-493-2251.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329. To avoid duplication, please use only one of these four methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, and use “USCG-2013-0804” in the “Search” field and follow instructions on the Web site.

A public comment period of up to one hour will be held during the meeting on September 19, 2013, after the committee completes its work on the agenda given under SUPPLEMENTARY INFORMATION. Speakers are requested to limit their comments to 5 minutes. Please note that the public comment period may end before the hour allotted, following the last call for comments. Contact the individual listed below to register as a speaker.

FOR FURTHER INFORMATION CONTACT: Commandant (CG-WWM-2), ATTN: Mr. David Dean, GLPAC Alternate Designated Federal Officer (ADFO), U.S. Coast Guard Stop 7509, 2703 Martin Luther King Jr. Avenue SE., Washington, DC 20593-7509; telephone 202-372-1533, fax 202-372-1914, or email at David.J.Dean@uscg.mil. If you have questions on viewing or submitting material to the docket, call Barbara Hairston, Program Manager, Docket Operations, telephone 202-366-9826.

SUPPLEMENTARY INFORMATION: Notice of this meeting is given under the Federal Advisory Committee Act (FACA), Title 5 United States Code (Pub. L. 92-463). GLPAC was established under the authority of 46 U.S.C. 9307, and makes recommendations to the Secretary of Homeland Security and the Coast Guard on matters relating to Great Lakes pilotage, including review of proposed Great Lakes pilotage regulations and policies.

Further information about GLPAC is available by going to the Web site: https://www.facadatabase.gov. Click on the search tab and type “Great Lakes” into the search form. Then select “Great Lakes Pilotage Advisory Committee” from the list.

Agenda

1. Election of Chairman and Vice Chairman to a 2 year term.

2. Review of minutes from July 2013 GLPAC.

3. Proposals from the committee for changes to the ratemaking methodology.

4. Public comment period.

5. Discussion of proposals for changes to the ratemaking methodology.

Dated: August 26, 2013.
Scott J. Smith,
Captain, U.S. Coast Guard, Acting Director, Marine Transportation Systems.

[FR Doc. 2013-21287 Filed 8-30-13; 8:45 am]

BILLING CODE 9110-04-P